DEPARTMENT OF TRANSPORTATION

Federal Aviation Administration

14 CFR Part 39

[Docket No. 2001-SW-07-AD; Amendment 39-13371; AD 2003-24-02]

RIN 2120-AA64

Airworthiness Directives; Eurocopter France Model AS332C, L, L1, and L2 Helicopters

AGENCY: Federal Aviation Administration, DOT.

ACTION: Final rule.

SUMMARY: This amendment adopts a new airworthiness directive (AD) for the specified Eurocopter France (Eurocopter) model helicopters that requires inspecting the cockpit pedal unit (pedal unit) adjustment lever (lever) for a crack at specified time intervals by a dye-penetrant inspection and replacing any cracked lever with an airworthy lever before further flight. Modifying the pedal unit is also required and is a terminating action for the requirements of this AD. This amendment is prompted by cracks detected in the lever that creates an unsafe condition. The actions specified by this AD are intended to prevent failure of the lever, loss of access to the brake pedals on the ground or loss of yaw control in flight, and subsequent loss of control of the helicopter.

DATES: Effective January 5, 2004.

The incorporation by reference of certain publications listed in the regulations is approved by the Director of the Federal Register as of January 5, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Gary Roach, Aviation Safety Engineer, FAA, Rotorcraft Directorate, Regulations and Guidance Group, Fort Worth, Texas 76193-0110, telephone (817) 222-5130, fax (817) 222-5961.

SUPPLEMENTARY INFORMATION: A proposal to amend 14 CFR part 39 to add an AD for Eurocopter France Model AS332C, L, L1, and L2 helicopters was published as an NPRM in the Federal Register on October 31, 2001 (66 FR 54960). That NPRM would have required inspecting the pedal unit lever for a crack and replacing any unairworthy lever, P/N 332A27-2344-20, with an airworthy lever. After publication of that NPRM, we determined that we should have incorporated the latest manufacturer's service information into our proposal, eliminated the proposed borescope inspection, and mandated terminating actions. Since those changes expanded the scope of the originally proposed rule, the FAA determined that it was necessary to reopen the comment period to provide additional opportunity for public comment. A supplemental NPRM was published in the Federal Register on March 7, 2003 (68 FR 11014). That action proposed to require inspecting the pedal unit lever, part number (P/N) 332A27.2344.20, that has not been modified in accordance with MOD 0726179, for a crack at specified time intervals by a dye-penetrant inspection, and replacing any cracked lever with an airworthy lever before further flight. That action also proposed to provide a terminating action for the AD through a modification of the pedal unit.

The Direction Generale De L'Aviation Civile (DGAC), the airworthiness authority for France, notified the FAA that an unsafe condition may exist on Eurocopter Model AS332C, L, L1, and L2 helicopters. The DGAC advises of several cases of failure of the lever, which might lead to temporary loss of access to the brake pedals during aircraft taxiing or difficulties in ensuring the yaw control of the aircraft in flight.

Eurocopter has issued Eurocopter Alert Service Bulletin No. 67.00.19, dated July 23, 2001, which describes the dye-penetrant inspection of the pedal units, and Eurocopter Alert Service Bulletin No. 67.00.20, dated June 8, 2001, which describes replacing the pilot's and co-pilot's pedal adjustment levers. The DGAC classified these alert service bulletins as mandatory and issued AD Nos. 2000-487-017(A)R1 and 2000-486-077(A)R1, both dated September 5, 2001, to ensure the continued airworthiness of these helicopters in France.

Interested persons have been afforded an opportunity to participate in the making of this amendment. No comments were received on the proposal or the FAA's determination of the cost to the public. The FAA has determined that air safety and the public interest require the adoption of the rule as proposed except the compliance time for the terminating action was proposed to be before June 5, 2003. However, since that date has already passed, we are extending that date to 90 days after the publication of this AD. We have determined that this change will neither increase the economic burden on any operator nor increase the scope of the AD.

On July 10, 2002, we issued a new version of 14 CFR part 39 (67 FR 47997, July 22, 2002), which governs the FAA's AD system. This regulation now includes material that relates to special flight permits, alternative methods of compliance, and altered products. However, for clarity and consistency in this final rule, we have retained the language of the NPRM and SNPRM regarding that material.

The FAA estimates that 3 helicopters of U.S. registry will be affected by this AD, and that it will take approximately 5 work hours to accomplish the dye-penetrant inspection; 5 work hours to remove and replace the pedal unit assembly with a new pedal assembly, or 6 work hours to remove, modify, and replace the modified pedal unit assembly. The average labor rate is $60 per work hour. Required parts will cost approximately $4,990 for replacing a cracked pedal unit assembly with a new pedal unit assembly, or $290 for modifying the installed pedal unit. Based on these figures, the total cost impact of the AD on U.S. operators is estimated to be $16,770 to replace the pedal unit assembly throughout the entire fleet, or $2,730 to modify the pedal unit for the entire fleet, assuming one dye-penetrant inspection regardless of which method of compliance is applicable.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-24-02 Eurocopter France: Amendment 39-13371. Docket No. 2001-SW-07-AD.

Applicability: Model AS332C, L, L1, and L2 helicopters, with a pilot or co-pilot anti-torque pedal adjustment lever (lever), part number (P/N) 332A27.2344.20, that has not been modified in accordance with MOD 0726179, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of the lever, loss of braking ability on the ground or loss of yaw control in flight, and subsequent loss of control of the helicopter, accomplish the following:

(a) For helicopters with 4,450 or more hours time-in-service (TIS), within 50 hours TIS and thereafter at intervals not to exceed 1,500 hours TIS, perform a dye-penetrant inspection of the lever, P/N 332A27.2344.20, in accordance with paragraph 2.B. of the Accomplishment Instructions in Eurocopter Alert Service Bulletin (ASB) No. 67.00.19, dated July 23, 2001, except returning levers and reporting to the manufacturer are not required.

(b) For helicopters with less than 4,450 hours TIS, on or before accumulating 4,500 hours TIS, and thereafter at intervals not to exceed 1,500 hours TIS, perform a dye-penetrant inspection of the lever, P/N 332A27.2344.20, in accordance with paragraph 2.B. of the Accomplishment Instructions in ASB No. 67.00.19, dated July 23, 2001, except returning levers and reporting to the manufacturer are not required.

(c) Replace any cracked lever with an airworthy lever before further flight.

(d) Before March 1, 2004, modify the pedal unit and replace the adjustment levers in accordance with the Accomplishment Instructions, Paragraph 2, in ASB No. 67.00.20, dated June 8, 2001. Modifying the pedal unit and replacing the adjustment levers in accordance with ASB 67.00.20, dated June 8, 2001, is a terminating action for the requirements of this AD.

(e) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 2: Information concerning the existence of approved alternative methods of compliance with this AD, if any, may be obtained from the Safety Management Group.

(f) Special flight permits will not be issued.

(g) The inspections, replacements (if necessary), and modifications shall be done in accordance with Eurocopter Alert Service Bulletin Nos. 67.00.19, dated July 23, 2001, and 67.00.20, dated June 8, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(h) This amendment becomes effective on January 5, 2004.

Note 3: The subject of this AD is addressed in Direction Generale De L'Aviation Civile (France) AD Nos. 2000-487-017(A)R1 and 2000-486-077(A)R1, both dated September 5, 2001.

Issued in Fort Worth, Texas, on November 17, 2003.
David A. Downey,
Manager, Rotorcraft Directorate, Aircraft Certification Service.

[FR Doc. 03-29224 Filed 11-28-03; 8:45 am]

BILLING CODE 4910-13-P